DEPARTMENT OF ENERGY

Federal Energy Regulatory Commission

[Docket Nos. CP05-360-000; CP05-357-000; CP05-358-000; CP05-359-000]

Creole Trail LNG, L.P.; Cheniere Creole Trail Pipeline Company; Notice of Availability of the Final Environmental Impact Statement for the Creole Trail LNG Terminal and Pipeline Project

May 5, 2006.

The staff of the Federal Energy Regulatory Commission (FERC or Commission) has prepared this final Environmental Impact Statement (EIS) for the construction and operation of the liquefied natural gas (LNG) import terminal and natural gas pipeline facilities, referred to as the Creole Trail LNG Terminal and Pipeline Project (Creole Trail Project), as proposed by Creole Trail LNG, L.P. and Cheniere Creole Trail Pipeline Company ¹ (collectively referred to as Creole Trail) in the above-referenced dockets.

¹ On March 23, 2006, Cheniere Creole Trail Pipeline Company filed a letter with the Commission stating that on or about March 31, 2006, Cheniere Creole Trail Pipeline Company will be merged under Delaware law into Creole Trail Pipeline, L.P. Creole Trail Pipeline L.P. will be formed solely for the purpose of acquiring Cheniere Creole Trail Pipeline Company and will be the surviving legal entity. Cheniere Creole Trail Pipeline Company requests in its letter that the Commission issue a certificate of public convenience and necessity to Creole Trail Pipeline, L.P.

The final EIS was prepared to satisfy the requirements of the National Environmental Policy Act. The staff concludes that approval of the Creole Trail Project, with appropriate mitigating measures as recommended, would have limited adverse environmental impact. The final EIS evaluates alternatives to the proposal, including system alternatives, alternative sites for the LNG import terminal, and pipeline alternatives.

The purpose of the Creole Trail Project is to provide the facilities necessary to meet growing demand for natural gas in the United States by providing access to a reliable and stable supply of natural gas from diverse areas of the world and to allow natural gas delivery to the Gulf of Mexico coast, midwest, northeast, and Atlantic markets using existing interstate and intrastate natural gas pipeline systems.

The final EIS addresses the potential environmental effects of the construction and operation of the following facilities in Cameron, Calcasieu, Beauregard, Allen, Jefferson Davis, and Acadia Parishes, Louisiana: ²

² Since the draft EIS was issued in December 2005, Creole Trail filed a project amendment to withdraw a 6.8-mile-long 20-inch-diameter lateral pipeline, referred to in the draft EIS as the Hackberry lateral.

• A ship unloading slip with two protected berths, each equipped with three liquid unloading arms and one vapor return arm;

• Four LNG storage tanks, each with a usable volume of 1,006,400 barrels (160,000 cubic meters (m³));

• Twenty-one high pressure LNG sendout pumps, each with a capacity of 1,686 gallons per minute (384 m³ per hour);

• Twenty-one high pressure submerged combustion vaporizers, each with a capacity of 183 million cubic feet per day;

• Three boil-off gas compressors;

• Ancillary utilities, buildings, and service facilities at the LNG terminal;

• 116.8 miles of dual 42-inch-diameter natural gas pipeline;

• 17 meter and regulation facilities; and

• Associated pipeline facilities including pig launcher and receiver facilities, and eight MLVs along each of the individual pipelines in the dual pipeline system.

The final EIS has been placed in the public files of the FERC and is available for distribution and public inspection at: Federal Energy Regulatory Commission, Public Reference Room, 888 First Street, NE., Room 2A, Washington, DC 20426. (202) 502-8371.

A limited number of copies of the final EIS are available from the Public Reference Room identified above. In addition, copies of the final EIS have been mailed to Federal, state, and local agencies; elected officials; public interest groups; individuals and affected landowners who requested a copy of the EIS; libraries; newspapers; and parties to these proceedings.

In accordance with the Council on Environmental Quality's (CEQ) regulations implementing NEPA, no agency decision on a proposed action may be made until 30 days after the U.S. Environmental Protection Agency (EPA) publishes a notice of availability of a final EIS. However, the CEQ regulations provide an exception to this rule when an agency decision is subject to a formal internal process that allows other agencies or the public to make their views known. In such cases, the agency decision may be made at the same time the notice of the final EIS is published, allowing both periods to run concurrently. Should the FERC issue Creole Trail authorizations for the proposed project, it would be subject to a 30-day rehearing period.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at: FERCOnlineSupport@ferc.gov or toll free at 1-866-208-3676, or for TTY at (202) 502-8659. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. Go to http://www.ferc.gov/esubscribenow.htm.

Magalie R. Salas,
Secretary.

[FR Doc. E6-7199 Filed 5-10-06; 8:45 am]

BILLING CODE 6717-01-P